DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency (FEMA) has submitted the following information collection request to the Office of Management and Budget (OMB) for review and clearance in accordance with the requirements of the Paperwork Reduction Act of 1995 (44 U.S.C. chapter 35). The submission describes the nature of the information collection, the categories of respondents, the estimated burden (i.e., the time, effort and resources used by respondents to respond) and cost, and includes the actual data collection instruments FEMA will use.

Title: Flood Mitigation Assistance (eGrants) and Grant Supplemental Information.

OMB Number: 1660-0072.

Abstract: FEMA uses the FMA program eGrants application, evaluation, and award process to provide Federal grant assistance to grantees for three types of grants—Planning, Project, and Technical Assistance. FMA Planning Grants are available to States, National Flood Insurance Program (NFIP) participating communities, and Indian tribal governments to prepare Flood Mitigation Plans. FMA Project Grants are available to States, NFIP participating communities, and Indian tribal governments to implement measures to reduce flood losses. Ten percent of the Project Grant is made available to States, NFIP participating communities, Indian tribal governments, and communities in non-participating States as a Technical Assistance Grant. The National Flood Insurance Reform Act (42 U.S.C. 1366), as amended by the Bunning-Bereuter-Blumenauer Flood Insurance Reform Act of 2004, (Pub. L. 108-264) authorizes the Flood Mitigation Assistance program. The FMA program is designed to award grants to States, NFIP participating communities, and Indian tribal governments so that measures can be taken to reduce or eliminate the long-term risk of flood damage to buildings, manufactured homes, and other structures insurable under the National Flood Insurance Program. FEMA encourages the use of FMA eGrants applications described in this notice; however, applicants may also use the Agency's grant administration paper-based forms currently under OMB control number 1660-0025 to apply.

Affected Public: State, local or tribal government and not for profit institutions.

Number of Respondents: 56 States.

Number of Responses: 280.

Estimated Time per Respondent: FEMA has estimated the burden associated with this information collection request as follows: Flood Mitigation Assistance (FMA) Program eGrants—Grant Supplemental Information—Sub-grant applications.

• Benefit Cost Determination—5 hours per response.

• Environmental Review—7.5 hours per response.

• Project Narrative—12 hours per response.

Estimated Total Annual Burden Hours: 4,088.

Frequency of Response: On occasion and quarterly.

Comments: Interested persons are invited to submit written comments on the proposed information collection to the Office of Information and Regulatory Affairs, Office of Management and Budget, Attention: Desk Officer for the Department of Homeland Security/Emergency Preparedness and Response Directorate/FEMA, Docket Library, Room 10102, 725 17th Street, NW., Washington, DC 20503 or facsimile number (202) 395-7285. Comments must be submitted on or before May 2, 2005.

FOR FURTHER INFORMATION CONTACT: Requests for additional information or copies of the information collection should be made to Muriel B. Anderson, Chief, Records Management Section, FEMA, 500 C Street, SW., Room 316, Washington, DC 20472; facsimile number (202) 646-3347; or, e-mail address FEMA-Information-Collections@dhs.gov.

Dated: March 22, 2005.
George S. Trotter,
Acting Branch Chief, Information Resources Management Branch, Information Technology Services Division.

[FR Doc. 05-6436 Filed 3-31-05; 8:45 am]

BILLING CODE 9110-41-P